DEPARTMENT OF THE INTERIOR

National Park Service

[NPS-WASO-IEV-NPS0037588; PPWOIEADC0 PPMVSIE1Y.Y00000 PX.XIEAD0073.00.1; OMB Control Number 1024-NEW]

Agency Information Collection Activities; National Park Service Survey of Educators

AGENCY: National Park Service, Interior.

ACTION: Notice of information collection; request for comment.

SUMMARY: In accordance with the Paperwork Reduction Act of 1995, we, the National Park Service (NPS), are proposing a new information collection.

DATES: Interested persons are invited to submit comments on or before June 24, 2024.

ADDRESSES: Written comments and recommendations for the proposed information collection should be sent within 30 days of publication of this notice to www.reginfo.gov/public/do/PRAMain. Find this particular information collection by selecting “Currently under Review—Open for Public Comments” or by using the search function. Please provide a copy of your comments to Phadrea Ponds, NPS Information Collection Clearance Officer (ADIR-ICCO), 13461 Sunrise Valley Drive (MS-244) Herndon, VA 20171; or at phadrea_ponds@nps.gov (email). Please reference Office of Management and Budget (OMB) Control Number 1024-NEW (Educators) in the subject line of your comments.

FOR FURTHER INFORMATION CONTACT: To request additional information about this Information Collection Request (ICR), contact Kerry Olsen, WASO Representative—NPS Interpretation, Education & Volunteers at kerry_olson@nps.gov (email) or at 202-641-1152 (telephone). Please reference OMB Control Number 1024-NEW (Educators) in the subject line of your comments. Individuals in the United States who are deaf, deafblind, hard of hearing, or have a speech disability may dial 711 (TTY, TDD, or TeleBraille) to access telecommunications relay services. Individuals outside the United States should use the relay services offered within their country to make international calls to the point of contact in the United States. You may also view the ICR at http://www.reginfo.gov/public/do/PRAMain.

SUPPLEMENTARY INFORMATION: In accordance with the Paperwork Reduction Act of 1995 (PRA, 44 U.S.C. 3501 et seq.) and 5 CFR 1320.8(d)(1) we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on April 20, 2023 (88 FR 24439). No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility.

(2) The accuracy of our estimate of the burden for this collection of information, including the validity of the methodology and assumptions used.

(3) Ways to enhance the quality, utility, and clarity of the information to be collected.

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: Authorized by the Organic Act of 1916 (54 U.S.C. 100101), the NPS is charged with protecting cultural and natural resources for the enjoyment and education of current and future generations. The NPS Education Program Office administers education programs to fulfill the educational mission of the NPS. This new information collection request is for an online survey of elementary school educators in support of that mission. Results from this study will support the Education Program Office in its work to provide inspiring and informative educational programs to students across the country.

This collection will include 3rd-5th grade educators who have participated in NPS education programs. This information collection will seek to understand educators' attitudes toward NPS Education Programs, management questions regarding program participation, and considerations for investing in and improving future program offerings.

Title of Collection: National Park Service Survey of Educators.

OMB Control Number: 1024-NEW.

Form Number: None.

Type of Review: New.

Respondents/Affected Public: Individuals or households.

Total Estimated Number of Annual Respondents: 1,462 (923 educator survey respondents, 539 non-response survey respondents).

Estimated Completion Time per Response: 11 minutes: educator survey; 2 minutes: non-response survey.

Total Estimated Number of Annual Burden Hours: 187 hours.

Respondent's Obligation: Voluntary.

Frequency of Collection: One-time, annually.

Total Estimated Annual Nonhour Burden Cost: None.

An agency may not conduct or sponsor and a person is not required to respond to a collection of information unless it displays a currently valid OMB control number.

The authority for this action is the Paperwork Reduction Act of 1995 (44 U.S.C. 3501 et seq.).

Phadrea Ponds,
Information Collections Clearance Officer, National Park Service.

[FR Doc. 2024-11323 Filed 5-22-24; 8:45 am]

BILLING CODE 4312-52-P